OFFICE OF THE DIRECTOR OF NATIONAL INTELLIGENCE

Privacy Act of 1974; System of Records

AGENCY: Office of the Director of National Intelligence.

ACTION: Notice to establish, amend and rescind systems of records.

SUMMARY: The Office of the Director of National Intelligence (ODNI) provides notice that it is establishing six (6) new Privacy Act systems of records, updating and amending four (4) existing Privacy Act systems of records and rescinding one Privacy Act system of records. This action is necessary to meet the requirements of the Privacy Act to publish in the Federal Register notice of the existence and character of records maintained by the agency (5 U.S.C. 552a(e)(4)).

DATES: This action will be effective on August 29, 2011, unless comments are received that result in a contrary determination.

ADDRESSES: You may submit comments, identified by [RIN number] by any of the following methods:

Federal eRulemaking Portal: http://www.regulations.gov.

Mail: Director, Information Management Office, Office of the Director of National Intelligence, Washington, DC 20511.

FOR FURTHER INFORMATION CONTACT: Mr. John F. Hackett, Director, Information Management Office, 703-275-2215.

SUPPLEMENTARY INFORMATION: The ODNI was created by the Intelligence Reform and Terrorism Prevention Act of 2004 (IRTPA), Public Law 108-458, 118 Stat. 3638 (Dec. 17, 2004). ODNI published its final Privacy Act Regulation on March 28, 2008 (73 FR 16531), codified at 32 CFR part 1701. It published; twelve (12) Privacy Act systems of records notices on December 28, 2007 (72 FR 73887); fourteen (14) Privacy Act systems of records notices on April 2, 2010 (75 FR 16853) and now adds six (6) systems of records to its inventory of record systems subject to the Privacy Act of 1974 (5 U.S.C. 552a). These new systems of records are: Human Resource Records (ODNI-16); Personnel Security Records (ODNI-17); Freedom of Information Act, Privacy Act, and Mandatory Declassification Review Request Records (ODNI-18); IT Systems Activity and Access Records (ODNI-19); Security Clearance Reciprocity Hotline Records (ODNI-20) and IT Network Support, Administration and Analysis Records (ODNI-21). To protect classified and sensitive personnel or law enforcement information contained in these systems, the Director of National Intelligence is proposing to exempt these systems of records from certain portions of the Privacy Act where necessary, as permitted by law. As required by the Privacy Act, a proposed rule is being published concurrently with this notice seeking public comment regarding exemption of these systems. The ODNI has previously established a rule that it will preserve the exempt status of records it receives when the reason for the exemption remains valid. See 32 CFR 1701.20 (a)(2) (73 FR at 16537).

The four existing systems of records being amended are: Office of Inspector General Investigation and Interview Records (ODNI/OIG-003), originally published at 72 FR 73902 (December 28, 2007); National Counterterrorism Center Knowledge Repository (ODNI/NCTC-004), originally published at 72 FR 73891 (December 28, 2007); IC Security Clearance and Access Approval Repository (ODNI-12), originally published at 75 FR 16863 (April 2, 2010); and National Intelligence Council (NIC) Consultation Records (ODNI-15), originally published at 75 FR 16867 (April 2, 2010) and now renamed Mission Outreach and Collaboration Records. ODNI/NCTC-004, ODNI-12, and ODNI-15 are being updated to reflect some combination of changes in the categories of record subjects, categories of records maintained, purposes for which the records are used, or the technology applied. ODNI/OIG-003 is being amended to add subsection (k)(5) of the Privacy Act as an additional basis for exempting records in that system from those provisions of the Act enumerated at 5 U.S.C. 552a(k). A proposed rulemaking supporting this notice addresses ODNI's intention to amend the exemption language of ODNI/OIG-003. This is the sole amendment to ODNI/OIG-003.

The six new systems of records and the four amended systems of records are subject to the General Routine Uses Applicable to More than One ODNI Privacy Act System of Records, subpart C of ODNI's Privacy Act Regulation published at 32 CFR Part 1701 (73 FR 16531, 16541).

Finally, ODNI provides notice that the system of records entitled National Counterterrorism Center Human Resources Management System (ODNI/NCTC-001), published at 72 FR 73888 (December 28, 2007), has been subsumed under the new Human Resource Records system (ODNI-16) and therefore is rescinded.

In accordance with 5 U.S.C. 552(r), the ODNI has provided a report of these new and altered systems of records to the Office of Management and Budget and to Congress.

Dated: July 14, 2011.
John F. Hackett,
Director, Information Management Office.

SYSTEM NAME:

Office of the Director of National Intelligence (ODNI) Human Resource Records (ODNI-16)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Current and former staff of the Office of the Director of National Intelligence (ODNI), to include ODNI employees, and military and civilian personnel detailed or assigned to the ODNI from other U.S. government departments and agencies; applicants for employment with the ODNI; and participants or beneficiaries designated by ODNI employees as part of a Federal benefit program.

CATEGORIES OF RECORDS IN THE SYSTEM:

Biographic information and employment history including military service; education, to include certifications and special qualifications; and emergency point of contacts. Application materials such as interview reports; test results; resumes; Knowledge, Skills and Abilities (KSAs); performance reviews; and qualifications and skills assessment data. ODNI assignments and positions descriptions, to include memorandums of agreement; security clearance information; time and attendance records; leave records; fitness for duty and performance appraisal reports; awards and commendations; personnel actions; travel records; training records; joint duty credit; employee grievances; records documenting disabilities or job-related injuries; and general in processing and out processing records. Financial information and entitlements including payroll; authorized or required deductions or contributions for Federal, state and local taxes; financial institution data; financial disclosure forms; medical leave bank claims; worker's compensation record; medical and life insurance records, including dependent and beneficiary designations; records regarding retirement status, eligibility, benefits and retirement savings accounts. This system also contains the Official Personnel Files of current and former ODNI staff, containing identifying and biographic data (name(s), date of birth, place of birth, citizenship, social security number, and contact information); records of military service; employment history (applications for Federal employment, personnel actions, performance appraisals, and other personnel documents); documentation of awards and training; investigative notices; and records relating to Federal benefit program participation, to include insurance, savings, and retirement programs.

AUTHORITY FOR MAINTENANCE OF THE SYSTEM:

The National Security Act of 1947, as amended, 50 U.S.C. 401-442; the Central Intelligence Agency Retirement Act, 50 U.S.C. 2001 et seq.; The Federal Records Act of 1950, as amended, 44 U.S.C. 3101 et seq.; Executive Order 9397, as amended (73 FR 70239); Executive Order 12333, as amended (73 FR 45325); Executive Order 12968, as amended (73 FR 38103); and Executive Order 13526 (75 FR 707).

PURPOSE(S):

To serve as the central human resources management system for the ODNI. Records in this system are used to provide a comprehensive and continuing record of each staff member's service, status, skills and personnel history; to perform centralized personnel functions to include hiring, performance management, time and attendance, leave earnings, Federal benefits, retirement programs, and separation; to maintain applicant and employee biographic and demographic data; to generate reports for workforce analysis and manpower requirements; and to support personnel training and career development programs.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541), and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within ODNI facilities. Paper records and other media are stored in secured areas within such facilities.

RETRIEVABILITY:

By name, social security number, or other unique employee identifier. Information may be retrieved from this system of records by automated or hand search based on indices and automated capabilities utilized in the normal course of business.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a and 36 CFR chapter 12, subchapter b, part 1228—Disposition of Federal Records, records will not be disposed of until such time as the National Archives and Records Administration (NARA) approves an applicable ODNI Records Control Schedule, or unless such records are covered by NARA's General Records Schedule.

SYSTEM MANAGER(S) AND ADDRESS:

Director, Human Resources, c/o Director, Information Management Office, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Individuals covered by this system; educational institutions; medical practitioners; private organizations; and other U.S. government departments and agencies.

EXEMPTIONS CLAIMED FOR THE SYSTEM:

Records contained in this System of Records may be exempted from the requirements of subsections (c)(3); (d)(1),(2),(3),(4); (e)(1); (e)(4)(G),(H),(I); (f) and (h) of the Privacy Act pursuant to 5 U.S.C. 552a(k)(1). Additionally, records may be exempted from the requirements of subsections (c)(4); (e)(2),(3),(5),(8),(12); and (g) of the Privacy Act consistent with any exemptions claimed under 5 U.S.C. 552a(j) or (k) by the originator of the record, provided the reason for the exemption remains valid and necessary.

SYSTEM NAME:

Office of the Director of National Intelligence (ODNI) Personnel Security Records (ODNI-17)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

ODNI staff; civilian and military personnel detailed or assigned to the ODNI; applicants who have been presented with and accepted offers of employment with the ODNI; government contractors; and other personnel nominated or investigated for security clearances and facility or program accesses.

CATEGORIES OF RECORDS IN THE SYSTEM:

Biographic data to include Social Security Numbers; employment history; personnel security forms; information documenting an individual's security eligibility for access to classified information, projects, or facilities, and suitability for ODNI assignment or affiliation; documentation of initial and final actions relating to the granting, denial, suspension, or revocation of security clearance or access approvals; and non-disclosure and other agreements executed by individuals covered by this system.

AUTHORITY FOR MAINTENANCE OF THE SYSTEM:

The National Security Act of 1947, as amended, 50 U.S.C. 401-442; The Federal Records Act of 1950, as amended, 44 U.S.C. 3101 et seq.; Executive Order 9397, as amended (73 FR 70239); Executive Order 10450, as amended (44 FR 1055); Executive Order 12333, as amended (73 FR 45325); Executive Order 12968, as amended (73 FR 38103); and Executive Order 13526 (75 FR 707).

PURPOSE:

Records in this system are used to document personnel suitability, eligibility and qualification decisions; initial and continued access approvals to classified information and facilities; and other personnel security actions and determinations.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR Part 1701 (73 FR 16531, 16541), and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within ODNI facilities. Paper records and other media are stored in secured areas within such facilities.

RETRIEVABILITY:

By name, social security number, or other personal identifier. Information may be retrieved from this system of records by automated or hand search based on indices and automated capabilities utilized in the normal course of business.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a and 36 CFR Chapter 12, Subchapter B, Part 1228—Disposition of Federal Records, records will not be disposed of until such time as the National Archives and Records Administration (NARA) approves an applicable ODNI Records Control Schedule, or unless such records are covered by NARA's General Records Schedule.

SYSTEM MANAGER(S) AND ADDRESS:

Mission Support Directorate/Security, c/o Director, Information Management Office, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Individuals covered by this system of records and any sponsoring entities.

EXEMPTIONS CLAIMED FOR THE SYSTEM:

Records contained in this System of Records may be exempted from the requirements of subsections (c)(3); (d)(1), (2), (3), (4); (e)(1); (e)(4)(G), (H), (I); (f) and (h) of the Privacy Act pursuant to 5 U.S.C. 552a(k)(1), (k)(2) and (k)(5). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Office of the Director of National Intelligence (ODNI) Freedom of Information Act, Privacy Act, and Mandatory Declassification Review Request Records (ODNI-18).

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Individuals who submit Freedom of Information Act (FOIA), Privacy Act (PA), and Mandatory Declassification Review (MDR) requests and administrative appeals to the Office of the Director of National Intelligence (ODNI); individuals whose requests and/or appeals have been referred to the ODNI by other Federal agencies; and individuals requesting assistance in connection with the filing of a FOIA/PA/MDR request or appeal on behalf of another.

CATEGORIES OF RECORDS IN THE SYSTEM:

Records created or compiled in response to FOIA/PA/MDR requests and administrative appeals, to include the requester's name, mailing address, and any other information voluntarily submitted by the requester such as telephone numbers and e-mail addresses; subject of the request; case numbers; responses to such requests and appeals; all related or supporting memoranda, correspondence, and notes; and copies of responsive records.

AUTHORITY FOR MAINTENANCE OF THE SYSTEM:

The National Security Act of 1947, as amended, 50 U.S.C. 401-442; The Federal Records Act of 1950, as amended, 44 U.S.C. 3101 et seq.; The Freedom of Information Act, as amended, 5 U.S.C. 552; The Privacy Act, as amended, 5 U.S.C. 552a; Executive Order 12333, as amended (73 FR 45325); and Executive Order 13526 (75 CFR 707).

PURPOSE(S):

To process requests for information and administrative appeals under the FOIA; for access, amendment, and administrative appeals under the Privacy Act; for requests and administrative appeals for MDR pursuant to applicable Executive Orders governing classified national security information; and to assist the ODNI in carrying out any other responsibilities relating to the FOIA, Privacy Act, and applicable Executive Orders, including production of program data in response to Congressional requests.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541), and incorporated by reference (see also http://www.dni.gov). In addition, a record from this system of records maintained by ODNI may be disclosed as follows:

a. To a Federal, state, local, or private entity for the purpose of consulting with that entity to enable ODNI to make a determination as to the propriety of access to or correction of information, or for the purpose of verifying the identity of an individual or the accuracy of information submitted by an individual who has requested access to or amendment of information.

b. To a Federal agency or entity that furnished the record or information for the purpose of permitting that agency or entity to make a decision as to access to or correction of the record or information, or to a Federal agency or entity for purposes of providing guidance or advice regarding the handling of particular requests.

c. To a submitter or subject of a record or information in order that ODNI may obtain assistance in making a determination as to access or amendment.

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within ODNI facilities. Paper records and other media are stored in secured areas within such facilities.

RETRIEVABILITY:

By name and case number. Information may be retrieved from this system of records by automated or hand search based on indices and automated capabilities utilized in the normal course of business. All searches of this system of records will be performed in ODNI offices by authorized staff.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a and 36 CFR chapter 12, subchapter B, part 1228—Disposition of Federal Records, records will not be disposed of until such time as the National Archives and Records Administration (NARA) approves an applicable ODNI Records Control Schedule, or unless such records are covered by NARA's General Records Schedule.

SYSTEM MANAGER(S) AND ADDRESS:

Director, Information Management Office, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management Office, Office of the Director of National Intelligence, Washington, DC 20511. Regulations governing access to one's records, or for appealing an initial determination concerning access to records, are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Records Access Procedures.” Regulations governing access to and amendment of one's records or for appealing an initial determination concerning access to or amendment of records are contained in the ODNI regulation implementing the Privacy Act.

RECORD SOURCE CATEGORIES:

Individuals who have submitted requests and administrative appeals pursuant to the FOIA, the Privacy Act, or applicable executive orders governing classification of national security information; ODNI records searched in the process of responding to such requests and appeals; ODNI personnel assigned to handle such requests and appeals; other Federal agencies or entities that have referred requests to the ODNI concerning ODNI records or that have consulted with the ODNI regarding the handling of particular requests and administrative appeals; and third parties entitled by law to assert privileges that bear upon access or amendment determinations.

EXEMPTIONS CLAIMED FOR THE SYSTEM:

Records pertaining to requests under the Privacy Act contained in this System of Records may be exempted from the requirements of subsections (c)(3); (d)(1), (2), (3), (4); (e)(1); (e)(4)(G), (H), (I); (f) and (h) of the Privacy Act pursuant to 5 U.S.C. 552a(k)(1), (2) and (5). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Office of the Director of National Intelligence (ODNI) Information Technology Systems Activity and Access Records (ODNI-19)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Individuals who are authorized to use ODNI and Intelligence Community (IC) enterprise information technology resources.

CATEGORIES OF RECORDS IN THE SYSTEM:

Records in this system include data on the use and attempted use of enterprise information technology resources by all individuals with access to these resources, to include full content of audited events and activities on such resources.

AUTHORITY FOR MAINTENANCE OF THE SYSTEM:

The National Security Act of 1947, as amended, 50 U.S.C. 401-442; The Counterintelligence Enhancement Act of 2002, as amended, 50 U.S.C. 402b; The Federal Records Act of 1950, as amended, 44 U.S.C. 3101 et seq.; The Computer Security Act of 1987, 40 U.S.C. 1441 note; Executive Order 12333, as amended (73 FR 45325); Executive Order 12968, as amended (73 FR 38103); and Executive Order 13526 (75 FR 707).

PURPOSE(S):

Data in this system will be used for evaluating the operational status, security and performance of the information environment and for identifying usage trends, capabilities, and misuse of or threats to ODNI and IC enterprise information technology resources or the information residing thereon. This data will support business analytics, information security, counterintelligence, and law enforcement requirements (to include civil, criminal, and administrative investigative requirements).

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov). In addition, records from this system of records may be disclosed to authorized individuals within Executive Branch departments or agencies for the purpose of identifying usage trends, capabilities, misuse of or threats to enterprise information technology resources or the information residing thereon, and for evaluating the operational status, security, and performance of the information environment.

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within ODNI facilities. Paper records and other media are stored in secured areas within such facilities.

RETRIEVABILITY:

By name, user ID, e-mail address, or other unique identifying search term.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a and 36 CFR chapter 12, subchapter B, part 1228—Disposition of Federal Records, records will not be disposed of until such time as the National Archives and Records Administration (NARA) approves an applicable ODNI Records Control Schedule, or when applicable, GRS 24 and 27.

SYSTEM MANAGER(S) AND ADDRESS:

Assistant Director of National Intelligence and IC Chief Information Officer; and Director of Information Technology, Mission Support Division; c/o Director, Information Management Office, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

ODNI and IC enterprise audit data.

EXEMPTIONS CLAIMED FOR THE SYSTEM:

Records contained in this System of Records may be exempted from the requirements of subsections (c)(3); (d)(1), (2), (3), (4); (e)(1); (e)(4)(G), (H), (I); (f) and (h) of the Privacy Act pursuant to 5 U.S.C. 552a(k)(1) and (k)(2). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Office of the Director of National Intelligence (ODNI) Security Clearance Reciprocity Hotline Records (ODNI-20)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Individuals who hold a security clearance granted by a U.S. government agency, to include U.S. Government officials; employees of private sector organizations; members of the academic community; members of scientific and other professional organizations; and other individuals with a current security clearance.

CATEGORIES OF RECORDS IN THE SYSTEM:

Biographic information including name; social security number; date of birth; place of birth; status as civilian, contractor or consultant; current clearance level to include special accesses; and sponsoring/gaining agency.

AUTHORITY FOR MAINTENANCE OF THE SYSTEM:

The National Security Act of 1947, as amended, 50 U.S.C. 401-442; The Federal Records Act, as amended, 44 U.S.C. 3101 et seq.; Executive Order 9397, as amended (73 FR 70239); Executive Order 10450, as amended (44 FR 1055); Executive Order 12333, as amended (73 FR 45325); Executive Order 12968, as amended (73 FR 38103); and Executive Order 13526 (75 FR 707).

PURPOSE(S):

The records in this system are used by authorized ODNI security personnel to facilitate and document resolution of issues relating to the transfer or recognition of individual clearances between U.S. Government entities and/or between the U.S. Government and the private, academic, and scientific sectors.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541), and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within ODNI facilities. Paper records and other media are stored in secured areas within such facilities.

RETRIEVABILITY:

By name or uniquely assigned case number. Information may be retrieved from this system of records by automated or hand search based on indices and automated capabilities utilized in the normal course of business.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a and 36 CFR chapter 12, subchapter B, part 1228—Disposition of Federal Records, records will not be disposed of until such time as the National Archives and Records Administration (NARA) approves an applicable ODNI Records Control Schedule, or unless such records are covered by NARA's General Records Schedule.

SYSTEM MANAGER(S) AND ADDRESS:

Community Services Group c/o Director, Information Management Office, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Individual complainants who are the subject of records in this system; U.S. Government and private sector security offices; and ODNI security personnel engaged in facilitating reciprocity on behalf of complainants.

EXEMPTIONS CLAIMED FOR THE SYSTEM:

Records contained in this System of Records may be exempted from the requirements of subsections (c)(3); (d)(1), (2), (3), (4); (e)(1); (e)(4)(G), (H), (I); (f) and (h) of the Privacy Act pursuant to 5 U.S.C. 552a(k)(1) and (k)(5). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Office of the Director of National Intelligence (ODNI) Information Technology Network Support, Administration and Analysis Records (ODNI-21)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

All persons possessing appropriate security clearances and holding accounts/access authorizations for ODNI and/or IC information technology resources and, when records are provided to ODNI for strategic integration purposes, for persons holding accounts/access authorizations for other government networks, systems and applications.

CATEGORIES OF RECORDS IN THE SYSTEM:

Biographic and job-related data to support user account authorization, including combinations of the following data elements: name, Social Security Number, date of birth, citizenship, home address, personal phone/cell numbers, employing entity and location, job title and phone number, role-based accesses and permissions, and supervisory point of contact.

AUTHORITY FOR MAINTENANCE OF THE SYSTEM:

The National Security Act of 1947, as amended, 50 U.S.C. 401-442; the Federal Records Act of 1950, as amended; 44 U.S.C. 3101 et seq.; Executive Order 9397, as amended (73 FR 70239); Executive Order 12333, as amended (73 FR 45325); and Executive Order 13388 (70 FR 62023).

PURPOSE(S):

Records in this system are used to administer user accounts and accesses for ODNI and IC information systems, applications, databases, Web sites, and networks, and for strategic resource management, to include analysis to deconflict redundancies and achieve interoperability and efficiencies with respect to government networks and systems.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR Part 1701 (73 FR 16531, 16541), and incorporated by reference (see also http://www.dni.gov).

DISCLOSURE TO CONSUMER REPORTING AGENCIES:

None

POLICIES AND PRACTICES FOR STORING, RETRIEVING, ACCESSING, RETAINING, AND DISPOSING OF RECORDS IN THE SYSTEM:

STORAGE:

Electronic records are stored in secure file-servers located within ODNI facilities. Paper records and other media are stored in secured areas within such facilities.

RETRIEVABILITY:

By name, social security number, or other identifier. Information may be retrieved by automated searches based on capabilities utilized in the normal course of business. Only authorized personnel may search this system.

SAFEGUARDS:

Information in this system is safeguarded in accordance with recommended and/or prescribed administrative, physical, and technical safeguards. Records are maintained in a secure government or contractor facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Pursuant to 44 U.S.C. 3303a and 36 CFR Chapter 12, Subchapter B, Part 128—Disposition of Federal Records, records will not be disposed of until such time as the National Archives and Records Administration (NARA) approves an applicable ODNI Records Control Schedule, or unless such records are covered by NARA's General Records Schedule.

SYSTEM MANAGER(S) AND ADDRESS:

Assistant Director of National Intelligence and IC Chief Information Officer; and Director of Information Technology, Mission Support Division, c/o Director, Information Management Office, Office of the Director of National Intelligence, Washington, DC 20511.

NOTIFICATION PROCEDURES:

As specified below, records in this system are exempt from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Sponsoring and approving government agencies; and private sector entities.

EXEMPTIONS CLAIMED FOR THE SYSTEM:

Records contained within this System of Records may be exempted from the requirements of subsections (c)(3); (d)(1), (2), (3), (4); (e)(1); (e)(4)(G), (H), (I); (f) and (h) of the Privacy Act pursuant to 5 U.S.C. 552a(k)(1). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Intelligence Community Security Clearance and Access Approval Repository (ODNI-12)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Subjects of security clearance and access approval investigations, including current and former U.S. government employees, applicants for employment in the Intelligence Community (IC), military personnel, personal service independent contractors and industrial contractors to U.S. government programs.

CATEGORIES OF RECORDS IN THE SYSTEM:

Revise current paragraph to read as follows:

Biographic data of individuals covered by the system (including name, date and place of birth, social security number, and sponsoring agency); mission and security-related attributes, including current status of security clearances and security access approvals, date and source of background investigation and, if applicable, of polygraph examination; and electronic logs of manual and electronic searches of the system.

AUTHORITY FOR MAINTENANCE OF THE SYSTEM:

Revise current paragraph to read as follows:

The National Security Act of 1947, as amended, 50 U.S.C. 401-442; The Counterintelligence Enhancement Act of 2002, as amended, 50 U.S.C. 402b; The Federal Records Act of 1950, as amended, 44 U.S.C. 3101 et seq.; Executive Order 13526 (75 FR 707); Executive Order 12333, as amended (73 FR 45325); and Executive Order 9397, as amended (73 FR 70239).

PURPOSE(S):

Revise current paragraph to read as follows:

Records in this system enable authorized personnel of the ODNI and other IC elements, other Federal government agencies, and U.S. Government-sponsored entities to reciprocally share information about individuals who are currently cleared or individuals where some processing was previously conducted for a clearance/access. Such information supports clearance reciprocity and automated security business processes for protecting physical and logical resources as well as audit of access to controlled facilities and classified information.

ROUTINE USES OF RECORDS MAINTAINED IN THE SYSTEM, INCLUDING CATEGORIES OF USERS AND THE PURPOSES OF SUCH USES:

Revise current paragraph to read as follows:

Records in this system are made accessible to elements of the IC and authorized personnel and automated capabilities of the Federal agencies and U.S. Government-sponsored entities to verify and audit individuals' security clearances and access approvals. See also General Routine Uses Applicable to More Than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Revise current paragraph to read as follows:

Electronic records are stored in secure file-servers located within ODNI facilities. Paper records and other media are stored in secured areas within such facilities.

RETRIEVABILITY:

Revise current paragraph to read as follows:

By name, social security number, or other unique identifier. Information may be retrieved from this system of records by automated search based on indices and automated capabilities utilized in the normal course of business. All searches of the system are conducted by authorized staff of Federal government agencies or U.S. Government-sponsored entities.

SAFEGUARDS:

Revise current paragraph to read as follows:

Information in this system is safeguarded in accordance with recommended and/or prescribed administrative, physical, and technical safeguards. Records are maintained in a secure facility with access to the facility limited to authorized personnel only and authorized and escorted visitors. Physical security protections include guards and locked facilities requiring badges and passwords for access. Records are accessed and provided to authorized personnel who require such information in the performance of their official duties and responsibilities. Communications are encrypted where required and other safeguards are in place to monitor and audit access and to detect intrusions. System backup is maintained separately.

RETENTION AND DISPOSAL:

Revise current paragraph to read as follows:

Pursuant to 44 U.S.C. 3303a and 36 CFR Chapter 12 Subchapter B, Part 1228-Disposition of Federal Records, records will not disposed of until such time as the National Archives and Records Administration (NARA) approves an applicable ODNI Records Control Schedule.

SYSTEM MANAGER(S) AND ADDRESS:

Personnel Security Databases Program Manager, c/o Director, Information Management, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Revise current paragraph to read as follows:

Records in this system derive from background investigations conducted or maintained by government agencies and U.S. Government-sponsored organizations, and from mission-based identity and attribute management sources.

EXEMPTIONS CLAIMED FOR THE SYSTEM:

Revise current paragraph to read as follows:

Records contained in this System of Records may be exempted from the requirements of subsections (c)(3); (d)(1), (2), (3), (4); (e)(1); (e)(4)(G), (H), (I); (f) and (h) of the Privacy Act pursuant to 5 U.S.C. 552a(k)(1), (2) and (5). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Revise current system name to read as follows:

Mission Outreach and Collaboration Records (ODNI-15)

SECURITY CLASSIFICATION:

The classification of records in this system can range from UNCLASSIFIED to TOP SECRET.

SYSTEM LOCATION:

Office of the Director of National Intelligence, Washington, DC 20511.

CATEGORIES OF INDIVIDUALS COVERED BY THE SYSTEM:

Revise current paragraph to read as follows:

U.S. Government personnel, personal services independent contractors, industrial contractors, or others who serve in liaison or contractual relationships with the ODNI or with Intelligence Community (IC) elements; and individuals in academia and the private sector with expertise on matters of intelligence interest.

CATEGORIES OF RECORDS IN THE SYSTEM:

Records in this system include biographic, administrative, and contact information for individuals covered by the system; records about intelligence products and activities in which covered individuals collaborated or participated.

AUTHORITY FOR MAINTENANCE OF THE SYSTEM:

Revise current paragraph to read as follows:

The National Security Act of 1947, as amended, 50 U.S.C. 401-442; Executive Order 12333, as amended (73 FR 45325); Executive Order 12968, as amended (73 FR 38103); and Executive Order 13526 (75 FR 707).

PURPOSE(S):

Revise current paragraph to read as follows:

Records in this system enable the ODNI and IC analysts to enlist the expertise of and collaborate with subject matter experts from outside of the IC in government, non-profit organizations, academia, and the private sector in producing strategic intelligence products.

ROUTINE USES OF RECORDS MAINTAINED IN THE SYSTEM, INCLUDING CATEGORIES OF USERS AND THE PURPOSES OF SUCH USES:

See General Routine Uses Applicable to More than One ODNI Privacy Act System of Records, Subpart C of ODNI's Privacy Act Regulation published at 32 CFR part 1701 (73 FR 16531, 16541) and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Paper records are stored in secured areas within ODNI facilities. Electronic records are stored in secure file-servers located within ODNI facilities.

RETRIEVABILITY:

By name or other key word. Information may be retrieved from this system of records by automated or hand search based on indices and automated capabilities utilized in the normal course of business.

SAFEGUARDS:

Information in this system is safeguarded in accordance with recommended and/or prescribed administrative, physical, and technical safeguards. Records are maintained in a secure government and government-sponsored facilities with access to the facility limited to authorized personnel only and authorized and escorted visitors. Physical security protections include guards and locked facilities requiring badges and passwords for access. Records are accessed only by authorized government personnel and contractors holding appropriate security clearances and whose official duties require access to the records. Communications are encrypted where required and other safeguards are in place to monitor and audit access and to detect intrusions. System backup is maintained separately.

RETENTION AND DISPOSAL:

Pursuant to 44 U.S.C. 3303a(d) and 36 CFR chapter 12, subchapter B, part 1228-Disposition of Federal Records, records will not be disposed of until such time as the National Archives and Records Administration (NARA) approves an applicable ODNI Records Control Schedule.

SYSTEM MANAGER(S) AND ADDRESS:

Revise current paragraph to read as follows:

Senior Advisor for Analytic Outreach, Mission Integration Division, and Director, Plans and Production, National Intelligence Council, c/o Director, Information Management, Office of the Director of National Intelligence, Washington, DC 20511.

NOTIFICATION PROCEDURES:

As specified below, records in this system are exempt from certain notification, access, and amendment procedures. Individuals seeking to learn whether this system contains non-exempt information about them should address inquiries to the ODNI at the address and according to the requirements set forth below under the heading “Record Access Procedures.”

RECORD ACCESS PROCEDURES:

As specified below, records in this system have been exempted from certain notification, access, and amendment procedures. A request for access shall be made in writing with the envelope and letter clearly marked “Privacy Act Request.” Requesters shall provide their full name and complete address. The requester must sign the request; and have it verified by a notary public. Alternately, the request may be submitted under 28 U.S.C. 1746, certifying the requester's identity and understanding that obtaining a record under false pretenses constitutes a criminal offense. Requests for access to information must be addressed to the Director, Information Management, Office of the Director of National Intelligence, Washington, DC 20511. Regulations governing access to one's records or for appealing an initial determination concerning access to records are contained in the ODNI regulation implementing the Privacy Act.

CONTESTING RECORD PROCEDURES:

As specified below, records in this system are exempt from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Individuals covered by this system; U.S. Government employees, agencies and organizations; private sector entities, academia, media, libraries and commercial databases.

EXEMPTIONS CLAIMED FOR THE SYSTEM:

Revise current paragraph to read as follows:

Records contained in this System of Records may be exempted from the requirements of subsections (c)(3); (d)(1), (2), (3), (4); (e)(1); (e)(4)(G), (H), (I); (f) and (h) of the Privacy Act pursuant to 5 U.S.C. 552a(k)(1). Additionally, records may be exempted from the requirements of subsections (c)(4); (e)(2), (3), (5), (8), (12); and (g) of the Privacy Act consistent with any exemptions claimed under 5 U.S.C. 552a(j) or (k) by the originator of the record, provided the reason for the exemption remains valid and necessary.

SYSTEM NAME:

Revise current system name to reads as follows:

National Counterterrorism Center Knowledge Repository (ODNI/NCTC-004).

SECURITY CLASSIFICATION:

The classification of records in this system can range from UNCLASSIFIED to TOP SECRET.

SYSTEM LOCATION:

National Counterterrorism Center (NCTC), Office of the Director of National Intelligence (ODNI), Washington, DC 20511.

CATEGORIES OF INDIVIDUALS COVERED BY THE SYSTEM:

Revise current paragraph to read as follows:

Individuals known or suspected to be or have been engaged in conduct constituting, in preparation for, in aid of or related to terrorism, and individuals whose conduct will be assessed for such nexus to terrorism.

CATEGORIES OF RECORDS IN THE SYSTEM:

Revise current paragraph to read as follows:

Classified and unclassified information residing in diplomatic, financial, military, homeland security, intelligence, law enforcement or other databases of potential counterterrorism value. Records include, but are not limited to, intelligence reports, message traffic, biographic data, biometrics, relationships and associations, travel data, or other information potentially relevant to counterterrorism efforts.

AUTHORITY FOR MAINTENANCE OF THE SYSTEM:

Revise current paragraph to read as follows:

The National Security Act of 1947, as amended, 50 U.S.C. 401-442; The Federal Records Act of 1950, as amended, 44 U.S.C. 3101 et seq.; Executive Order 12333, as amended (73 FR 45325); Executive Order 12968, as amended (73 FR 38103); and Executive Order 13526 (75 FR 707).

PURPOSE(S):

Revise current paragraph to read as follows:

The NCTC Knowledge Repository facilitates secure sharing and assessment of terrorism information and potential terrorism information using an integrated information technology architecture and knowledge base, and provides a centralized repository of information needed to fight terrorism to which is applied a set of common services to access, manage, enrich, and deliver this information to end users and mission-oriented applications.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published at 32 CFR Part 1701 (73 FR 16531, 16541), and incorporated by reference (see also http://www.dni.gov).

DISCLOSURE TO CONSUMER REPORTING AGENCIES:

None.

POLICIES AND PRACTICES FOR STORING, RETRIEVING, ACCESSING, RETAINING, AND DISPOSING OF RECORDS IN THE SYSTEM:

STORAGE:

Revise current paragraph to read as follows:

Electronic records are stored in secure file-servers located within secure facilities under the control of NCTC. Paper records and other media are stored in secured areas within such facilities.

RETRIEVABILITY:

Revise current paragraph to read as follows:

By name or other identifier. Information will be retrieved from this System of Records by automated capabilities utilized in the normal course of business. All searches of this System of Records will be performed in ODNI/NCTC facilities by authorized staff.

SAFEGUARDS:

Information in this system is safeguarded in accordance with recommended and/or prescribed administrative, physical, and technical safeguards. Records are maintained in a secure government facility with access to the facility limited to authorized personnel only and authorized and escorted visitors. Physical security protections include guards and locked facilities requiring badges and passwords for access. Records are accessed only by authorized government personnel and contractors holding appropriate security clearances and who have a valid business reason to access the records. Communications are encrypted where required and other safeguards are in place to monitor and audit access and to detect intrusions. Backup tapes are maintained in a secure, off-site location.

RETENTION AND DISPOSAL:

Revise current paragraph to read as follows:

Pursuant to 44 U.S.C. 3303a and 36 CFR Chapter 12, Subchapter B, Part 1228—Disposition of Federal Records, terrorism-related records owned and maintained by ODNI/NCTC will be disposed of in accordance with the applicable National Archives and Records Administration (NARA)-approved ODNI/NCTC Records Control Schedule. Records not reasonably believed to constitute terrorism information are temporary records and will be dispositioned consistent with specific agreements with data providers and in accordance with Attorney General-approved procedures implementing Section 2.3 of Executive Order 12333 for NCTC's access to, retention, and dissemination of information concerning United States persons. ODNI/NCTC will seek additional NARA approval, as necessary, consistent with Attorney General-approved procedures, to address the disposition of records related to non-terrorist identities.

SYSTEM MANAGER(S) AND ADDRESS:

Revise current paragraph to read as follows:

NCTC Knowledge Repository System Manager, c/o Director, Information Management, Office of the Director of National Intelligence, Washington, DC 20511.

NOTIFICATION PROCEDURES:

As specified below, records in this system have been exempted from certain notification, access, and amendment procedures. Individuals seeking to learn whether this system contains non-exempt information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act.

RECORD SOURCE CATEGORIES:

Revise current paragraph to read as follows:

Federal, state, local, and foreign government entities; private sector entities; and commercial and public sources.

EXEMPTIONS CLAIMED FOR THE SYSTEM:

Revise current paragraph to read as follows:

Records contained within this System of Records may be exempted from the requirements of subsections (c)(3); (d)(1),(2),(3),(4); (e)(1); (e)(4)(G),(H),(I); (f) and (h) of the Privacy Act pursuant to 5 U.S.C. 552a(k)(1) and (k)(2). Additionally, records may be exempted from the requirements of subsections (c)(4);(e)(2),(3),(5),(8),(12); and (g) of the Privacy Act consistent with any exemptions claimed under 5 U.S.C. 552a(j) or (k) by the originator of the record, provided the reason for the exemption remains valid and necessary.

SYSTEM NAME:

Office of Inspector General (OIG) Investigation and Interview Records (ODNI/OIG-003).

SECURITY CLASSIFICATION:

The classification of records in this system can range from UNCLASSIFIED to TOP SECRET.

SYSTEM LOCATION:

Office of the Inspector General (OIG), Office of the Director of National Intelligence (ODNI), Washington, DC 20511.

CATEGORIES OF INDIVIDUALS COVERED BY THE SYSTEM:

Persons who are interviewed by or provide information to the OIG; persons who are the subjects of OIG reviews, inquiries, or investigations; persons involved with matters under investigation by the OIG, and persons who have filed grievances with the OIG or with other elements of the Intelligence Community (IC), as defined by 401a(4) of the National Security Act of 1947, as amended.

CATEGORIES OF RECORDS IN THE SYSTEM:

Reports of interviews, signed statements, correspondence, reports of investigations, forms, cables, internal memoranda of the ODNI and other IC elements, criminal records of individuals covered by the system, and materials relating to employee grievances and other matters of interest to or inspected by the OIG.

AUTHORITY FOR MAINTENANCE OF THE SYSTEM:

Revise current paragraph to read as follows:

The National Security Act of 1947, as amended, 50 U.S.C. 401-442; The Inspector General Act of 1978, as amended, 5 U.S.C. App. 1; Executive Order 13354 (69 FR 53589); Executive Order 12333, as amended (73 FR 45325); Executive Order 12968, as amended (73 FR 38103); and Executive Order 13526 (75 FR 707).

PURPOSE(S):

Records in this system detail the OIG's conduct of personnel grievance and misconduct-related investigations.

ROUTINE USES OF RECORDS MAINTAINED IN THE SYSTEM, INCLUDING CATEGORIES OF USERS AND THE PURPOSES OF SUCH USES:

See General Routine Uses Applicable to More Than One ODNI Privacy Act System of Records, Subpart C of ODNI's Privacy Act Regulation published concurrently with this notice and incorporated by reference (see also http://www.dni.gov). In addition, the following routine uses may apply:

a. A record from this system of records maintained by the OIG may be disclosed as a routine use to officials within the IC where the investigation of a grievance, allegation of misconduct or other personnel issue is a matter within their administrative or supervisory responsibility and there is a need to know, or where the data is necessary to conduct management responsibilities including evaluation of current and proposed programs, policies and activities, selected assignments, and requests for awards or promotions.

b. Unclassified records in the system, or unclassified portions thereof, including information identifying individuals covered by the system, may be disclosed as a routine use to the public or to the media for release to the public when the matter under investigation has become public knowledge or the Inspector General determines that such disclosure is necessary to preserve confidence in the integrity of the Inspector General process, or is necessary to publicly demonstrate the accountability of Intelligence Community employees, officers, or individuals covered by the system, unless it is determined that release of the specific information in the context of a particular case would constitute an unwarranted invasion of personal privacy.

c. Records in the system may be disclosed to members of the President's Council on Integrity and Efficiency or the Executive Council on Integrity and Efficiency for peer reviews and the preparation of reports to the President and Congress on the activities of the Inspectors General.

DISCLOSURE TO CONSUMER REPORTING AGENCIES:

None.

POLICIES AND PRACTICES FOR STORING, RETRIEVING, ACCESSING, RETAINING, AND DISPOSING OF RECORDS IN THE SYSTEM:

STORAGE:

Electronic records are stored in secure file-servers located within secure facilities under the control of the Central Intelligence Agency. Paper records and other hard-copy records are stored in secured areas within the control of the OIG and maintained in separate folders in a locked filing cabinet dedicated exclusively to OIG investigative files.

RETRIEVABILITY:

By name, social security number, or other identifier. Information may be retrieved from this system of records by automated or hand searches based on existing indices, and by automated means utilized in the normal course of business. Only authorized personnel with a need to know may search this system.

SAFEGUARDS:

Information in this system is safeguarded in accordance with recommended and/or prescribed administrative, physical, and technical safeguards. Records are stored in a secure government or contractor facility with access to the facility limited to authorized personnel only and authorized and escorted visitors. Physical security protections include guards and locked facilities requiring badges and passwords for access. Paper files are maintained in a locked file cabinet. Electronic files are maintained in secure, limited-access file-servers. Records are accessed only by authorized government personnel and contractors holding appropriate security clearances and who have a valid investigative or business reason to access the records. Communications are encrypted where required and other safeguards are in place to monitor and audit access and to detect intrusions. Backup tapes are maintained in a secure, off-site location.

RETENTION AND DISPOSAL:

Pursuant to 44 U.S.C. 3303a(d) and 36 CFR chapter 12, subchapter B, part 1228—Disposition of Federal Records, records will not be disposed of until such time as the National Archives and Records Administration (NARA) approves an applicable ODNI Records Control Schedule.

SYSTEM MANAGER(S) AND ADDRESS:

Executive Officer, Office of the Inspector General, Office of the Director of National Intelligence, Washington, DC 20511.

NOTIFICATION PROCEDURES:

As specified below, records in this system have been exempted from certain notification, access, and amendment procedures. Individuals seeking to learn whether this system contains information about them (“notification”) should address inquiries to the ODNI at the address and according to the requirements set forth below under the heading “Record Access Procedures.”

RECORD ACCESS PROCEDURES:

As specified below, records in this system have been exempted from certain notification, access, and amendment procedures. A request for access to non-exempt records shall be made in writing with the envelope and letter clearly marked “Privacy Act Request.” Each request must provide the requester's full name and complete address. The requester must sign the request, and have it verified by a notary public. Alternately, the request may be submitted under 28 U.S.C. 1746, certifying the requester's identity and acknowledging that obtaining records under false pretenses constitutes a criminal offense. Requests for access to information must be addressed to the Director, Information Management Office, Office of the Director of National Intelligence, Washington, DC 20511. Regulations governing access to one's records or for appealing an initial determination concerning access to records are contained in the ODNI regulation implementing the Privacy Act published concurrently with this notice.

CONTESTING RECORD PROCEDURES:

As specified below, records in this system have been exempted from certain notification, access, and amendment procedures. Individuals seeking to correct or amend non-exempt records should address their requests to the ODNI at the address and according to the requirements set forth above under the heading “Record Access Procedures.” Regulations governing access to and amendment of one's records or for appealing an initial determination concerning access or amendment of records are contained in the ODNI regulation implementing the Privacy Act published concurrently with this notice.

RECORD SOURCE CATEGORIES:

Information is obtained from Federal, state, local and foreign government entities, as well as from individuals, including U.S. citizens and foreign nationals, pursuant to the authorized activities of investigatory staff of the ODNI, of other IC elements and of Federal contractors performing investigatory functions.

EXEMPTIONS CLAIMED FOR THE SYSTEM:

Revise current paragraph to read as follows:

Records in this System of Records pertaining to the enforcement of criminal laws may be exempted from the requirements of subsections (c)(3) and (4); (d)(1),(2),(3),(4); (e)(1),(2),(3),(5),(8); and (g) of the Privacy Act pursuant to 5 U.S.C. 552a(j)(2) as claimed by ODNI or by the originator of the record. Records constituting classified or non-criminal investigatory records may be exempted from the requirements of subsections (c)(3); (d)(1),(2),(3),(4); (e)(1); (e)(4)(G),(H),(I); (f) and (h) of the Privacy Act pursuant to 5 U.S.C. 552a(k)(1), (k)(2) and (k)(5) as claimed by ODNI or by the originator of the records, provided the reason for the exemption remains valid and necessary.

[FR Doc. 2011-18193 Filed 7-18-11; 8:45 am]

BILLING CODE P